DEPARTMENT OF HOUSING AND URBAN DEVELOPMENT

[Docket No. FR-5282-N-05]

Notice of Submission of Proposed Information Collection to OMB; Comment Request; Notice of Tax Credit Assistance Program (TCAP) Allocation and Requirements for the Letter of Intent To Participate in TCAP

AGENCY: Office of the Chief Information Officer.

ACTION: Notice of proposed information collection.

SUMMARY: The proposed information collection requirement described below has been submitted to the Office of Management and Budget (OMB) for review, as required by the Paperwork Reduction Act. The Department is soliciting public comments on the subject proposal.

DATES: Comments Due Date: October 19, 2009

ADDRESSES: Interested persons are invited to submit comments regarding this proposal. Comments should refer to the proposal by name/or OMB approval number and should be sent to: Lillian L. Deitzer, Departmental Reports Management Officer, QDAM, Department of Housing and Urban Development, 451 7th Street, SW., Room 4178, Washington, DC 20410-5000; telephone (202) 402-8048 (this is not a toll-free number) or e-mail Ms. Deitzer at Lillian.L.Deitzer@hud.gov for a copy of the proposed forms, or other available information.

FOR FURTHER INFORMATION CONTACT: Peter Huber, Director, Financial & Information Services Division, OAHP, Department of Housing and Urban Development, 451 Seventh Street, SW., Washington, DC 20410; e-mail: Peter.H.Huber@hud.gov; telephone (202) 402-3941. This is not a toll-free number.

SUPPLEMENTARY INFORMATION: This Notice will inform the public that the U.S. Department of Housing and Urban Development (HUD) will submit revised information collection to OMB for review for the Tax Credit Assistance Program (TCAP), which is authorized under the American Recovery and Reinvestment Act (ARRA) of 2009, as required by the Paperwork Reduction Act of 1995 (44 U.S.C. Chapter 35 as amended. This new program provides $2.25 billion of grant funding for capital investment in Low Income Housing Tax Credit (LIHTC) projects, which cannot move forward because the current economic crisis has reduced the private capital available to them. HUD will administer these funds as the Tax Credit Assistance Program (TCAP). TCAP grant amounts will be determined by a formula established in ARRA and will be awarded by HUD to the housing credit allocating agencies of each state, the District of Columbia and the Commonwealth of Puerto Rico.

This Notice also lists the following information: Title Of Proposal: Tax Credit Assistance Program (TCAP).

Description Of Information Collection: This is a revision of a previously approved information collection. The Department of Housing and Urban Development is seeking review of the Paperwork Reduction Act requirements associated with the Tax Credit Assistance Program (TCAP).

Each TCAP grantee is required to submit (1) a TCAP submission packet, which explains how it plans on awarding the TCAP funds competitively based on its qualified allocation plan; (2) a grant agreement form (HUD-40092); (3) banking information to be used for the deposit of TCAP funds upon drawdown from the Integrated Disbursement and Information System (IDIS) (SF-1199A); and (4) IDIS Access Request Forms (HUD-40099) required for grantee access to IDIS for drawdown request and approval and for project level reporting described below.

In addition, each TCAP grantee will be required to use IDIS to drawdown funds and to report on project level information including the following information identified in the Office of Management and Budget (OMB) Initial Implementing Guidance for the American Recovery and Reinvestment Act of 2009 issued On February 18, 2009. Specifically, the guidance requires quarterly reporting on:

(1) The total amount of recovery funds received from that agency;

(2) The amount of recovery funds received that were obligated and expended to projects or activities. This reporting will also include unobligated Allotment balances to facilitate reconciliations.

(3) A detailed list of all projects or activities for which recovery funds were obligated and expended, including:

(A) The name of the project or activity;

(B) a description of the project or activity;

(C) an evaluation of the completion status of the project or activity;

(D) an estimate of the number of jobs created and the number of jobs retained by the project or activity; and

(E) for infrastructure investments made by State and local governments, the purpose, total cost, and rationale of the agency for funding the infrastructure investment with funds made available under this Act, and name of the person to contact at the agency if there are concerns with the infrastructure investment.

(4) Detailed information on any subcontracts or subgrants awarded by the recipient to include the data elements required to comply with the Federal Funding Accountability and Transparency act of 2006 (Pub. L. 109-282), allowing aggregate reporting on awards below $25,000 or to individuals, as prescribed by the Director of OMB.

OMB Control Number: 2506-0181.

Agency Form Numbers: None.

Members of Affected Public: State housing credit agencies.

Estimation of the total numbers of hours needed to prepare the information collection including number of respondents, frequency of responses, and hours of responses: An estimation of the total number of recordkeeping and reporting hours per response is 15.5 hours. The number of respondents is 52. The total hours requested is 11,284.

Paperwork requirement | Number of respondents | Number of responses | Total responses | Hours per response | Total hours | Cost per response* | Total cost
Grantee's Written Agreements | 52 | 14 | 728 | 5 | 3,640 | $145.00 | $105,560
IDIS Activity Set-Up and Completion | 52 | 14 | 728 | 10 | 7,280 | 290.00 | 211,120
Grantee Website Reporting | 52 | 14 | 728 | 0.50 | 364 | 14.50 | 10,556
Total paperwork burden |  |  |  |  | 11,284 |  | 327,236
(*This figure is based on GS-11 salary)

Authority: The Paperwork Reduction Act of 1995, 44 U.S.C. Chapter 35, as amended.

Dated: August 12, 2009.
Mercedes Márquez,
Assistant Secretary for Community Planning & Development.

[FR Doc. E9-19914 Filed 8-18-09; 8:45 am]

BILLING CODE 4210-67-P